DEPARTMENT OF ENERGY

Federal Energy Regulatory Commission

[Project No. P-2725-076]

Oglethorpe Power Corporation; Notice of Application Accepted for Filing and Soliciting Motions To Intervene and Protests

Take notice that the following hydroelectric application has been filed with the Commission and is available for public inspection.

a. Type of Application: New Major License.

b. Project No.: 2725-076.

c. Date filed: December 6, 2024.

d. Applicant: Oglethorpe Power Corporation (OPC).

e. Name of Project: Rocky Mountain Pumped Storage Hydroelectric Project.

f. Location: On Heath Creek, in Floyd County, Georgia.

g. Filed Pursuant to: Federal Power Act 16 U.S.C. 791(a)-825(r).

h. Applicant Contact: Jeff Swartz, Oglethorpe Power Corporation, Senior Vice President of Plant Operations, 2100 East Exchange Place, Tucker, Georgia 30084, email at Jeff.Swartz@opc.com.

i. FERC Contact: David Gandy at 202-502-8560, or david.gandy@ferc.gov.

j. Deadline for filing motions to intervene and protests: 60 days from the issuance date of this notice.

The Commission strongly encourages electronic filing. Please file motions to intervene and protests using the Commission's eFiling system at https://ferconline.ferc.gov/FERCOnline.aspx. For assistance, please contact FERC Online Support at FERCOnlineSupport@ferc.gov, (866) 208-3676 (toll free), or (202) 502-8659 (TTY). In lieu of electronic filing, you may submit a paper copy. Submissions sent via the U.S. Postal Service must be addressed to: Debbie-Anne Reese, Secretary, Federal Energy Regulatory Commission, 888 First Street NE, Room 1A, Washington, DC 20426. Submissions sent via any other carrier must be addressed to: Debbie-Anne Reese, Secretary, Federal Energy Regulatory Commission, 12225 Wilkins Avenue, Rockville, Maryland 20852. All filings must clearly identify the project name and docket number on the first page: Rocky Mountain Pumped Storage Hydroelectric Project (P-2725-076).

The Commission's Rules of Practice and Procedures require all intervenors filing documents with the Commission to serve a copy of that document on each person on the official service list for the project. Further, if an intervenor files comments or documents with the Commission relating to the merits of an issue that may affect the responsibilities of a particular resource agency, they must also serve a copy of the document on that resource agency.

k. This application has been accepted for filing but is not ready for environmental analysis at this time.

l. The Rocky Mountain Pumped Storage Project consists of the following existing facilities: (1) a 120-foot-high, 12,895-foot-long earth and rockfill upper dam; (2) a 221-acre upper reservoir with 10,650 acre-feet of storage and a normal operating pool elevation of 1,392 feet NAVD88; (3) a 35-foot-diameter, 567-foot-high concrete-lined power shaft; (4) a 35-foot-diameter, 1,935-foot-long concrete lined tunnel with two concrete lined bifurcations; (5) three 19-foot-diameter, 470-foot-long steel lined penstocks; (6) a 348-foot-long, 156-foot-wide, 175-foot-high powerhouse containing three reversible Francis pump-turbines, with a combined installed capacity of 904 megawatts; (7) three 230 kilovolt, 2.7-mile-long transmission lines; (8) a substation; and (9) appurtenant facilities.

The project has reserve storage water contained in two auxiliary pools (Pool I and Pool II) adjacent to the lower reservoir. Pool I's surface area is 400 acres and is formed by four dams, including: (a) a 25-foot-high earthen dam of unspecified length; (b) a 20-foot-high, 775-foot-long earth and rockfill dam; (c) a 50-foot-high, 700-foot-long earth and rockfill dam; and (d) a 50-foot-high, 405-foot-long earth and rockfill dam. Pool II's surface area is 200 acres and is formed by a 30-foot-high, 335-foot-long earth and rockfill dam.

The Rocky Mountain Pumped Storage Project is operated in a pumped storage mode and OPC proposes to continue operating the project in that mode.

m. A copy of the application is available for review via the internet through the Commission's Home Page (https://www.ferc.gov), using the “eLibrary” link. Enter the docket number, excluding the last three digits in the docket number field, to access the document. For assistance, contact FERC at FERCOnlineSupport@ferc.gov or call toll free, (886) 208-3676 or TTY (202) 502-8659.

You may also register online at https://www.ferc.gov/docs-filing/esubscription.aspx to be notified via email of new filings and issuances related to this or other pending projects. For assistance, contact FERC Online Support.

The Commission's Office of Public Participation (OPP) supports meaningful public engagement and participation in Commission proceedings. OPP can help members of the public, including landowners, community organizations, Tribal members, and others, access publicly available information and navigate Commission processes. For public inquiries and assistance with making filings such as interventions, comments, or requests for rehearing, the public is encouraged to contact OPP at (202) 502-6595, or OPP@ferc.gov.

n. Anyone may submit a protest or a motion to intervene in accordance with the requirements of Rules of Practice and Procedure, 18 CFR 385.210, 385.211, and 385.214. In determining the appropriate action to take, the Commission will consider all protests filed, but only those who file a motion to intervene in accordance with the Commission's Rules may become a party to the proceeding. Any protests or motions to intervene must be received on or before the specified deadline date for the particular application.

All filings must (1) bear in all capital letters the title “PROTEST” or “MOTION TO INTERVENE,” “NOTICE OF INTENT TO FILE COMPETING APPLICATION,” or “COMPETING APPLICATION;” (2) set forth in the heading the name of the applicant and the project number of the application to which the filing responds; (3) furnish the name, address, and telephone number of the person protesting or intervening; and (4) otherwise comply with the requirements of 18 CFR 385.2001 through 385.2005. Agencies may obtain copies of the application directly from the applicant. A copy of any protest or motion to intervene must be served upon each representative of the applicant specified in the particular application.

o. Procedural schedule: The application will be processed according to the following schedule. Revisions to the schedule will be made as appropriate.

Milestone | Target date
Issue Scoping Document 1 for comments | May 2025.
Comments on Scoping Document 1 | June 2025.
Issue Scoping Document 2 (if necessary) | July 2025.
Issue Notice of Ready for Environmental Analysis | July 2025.

Dated: March 4, 2025.
Debbie-Anne A. Reese,
Secretary.

[FR Doc. 2025-03781 Filed 3-7-25; 8:45 am]

BILLING CODE 6717-01-P